DEPARTMENT OF COMMERCE

International Trade Administration

[C-570-942]

Certain Kitchen Appliance Shelving and Racks From the People's Republic of China: Countervailing Duty Order

AGENCY: Import Administration, International Trade Administration, Department of Commerce.

SUMMARY: On September 2, 2009, the U.S. International Trade Commission (“ITC”) notified the Department of Commerce (“Department”) of its affirmative determinations of material injury to the U.S. refrigeration shelving industry and threat of material injury to the U.S. oven racks industry. See Certain Kitchen Appliance Shelving and Racks from China, USITC Pub. 4098, Investigation 701-TA-458 and 731-TA-1154 (Final) (August 2009). Based on affirmative final determinations by the Department and the ITC, the Department is issuing this countervailing duty order on certain kitchen appliance shelving and racks from the People's Republic of China (“PRC”).

DATES: Effective Date: September 14, 2009.

FOR FURTHER INFORMATION CONTACT: Yasmin Nair or Scott Holland, AD/CVD Operations, Office 1, Import Administration, International Trade Administration, U.S. Department of Commerce, 14th Street and Constitution Avenue, NW., Washington, DC 20230; telephone: (202) 482-3813 and (202) 482-1279, respectively.

Background

On July 27, 2009, the Department published its final determination in the countervailing duty investigation of certain kitchen appliance shelving and racks from the PRC. See Certain Kitchen Shelving and Racks from the People's Republic of China: Final Affirmative Countervailing Duty Determination, 74 FR 37012 (July 27, 2009).

On August 18, 2009, the ITC found in its final vote that there are two separate like products, refrigeration shelving and oven racks, and thus two separate domestic industries. The ITC further found that the U.S. industry producing refrigeration shelving is materially injured or threatened with material injury by imports of kitchen appliance shelving and racks from the PRC. For oven racks, the ITC found a threat of material injury. On September 2, 2009, the ITC notified the Department of its final determination pursuant to section 705(b)(1)(A)(i) of the Tariff Act of 1930, as amended (“the Act”). See Certain Kitchen Appliance Shelving and Racks from China, USITC Pub. 4098, Investigation 701-TA-458 and 731-TA-1154 (Final) (August 2009).

Scope of the Order

The scope of this order consists of shelving and racks for refrigerators, freezers, combined refrigerator-freezers, other refrigerating or freezing equipment, cooking stoves, ranges, and ovens (“certain kitchen appliance shelving and racks” or “the subject merchandise”). Certain kitchen appliance shelving and racks are defined as shelving, baskets, racks (with or without extension slides, which are carbon or stainless steel hardware devices that are connected to shelving, baskets, or racks to enable sliding), side racks (which are welded wire support structures for oven racks that attach to the interior walls of an oven cavity that does not include support ribs as a design feature), and subframes (which are welded wire support structures that interface with formed support ribs inside an oven cavity to support oven rack assemblies utilizing extension slides) with the following dimensions:

• Shelving and racks with dimensions ranging from 3 inches by 5 inches by 0.10 inch to 28 inches by 34 inches by 6 inches; or

• Baskets with dimensions ranging from 2 inches by 4 inches by 3 inches to 28 inches by 34 inches by 16 inches; or

• Side racks from 6 inches by 8 inches by 0.10 inch to 16 inches by 30 inches by 4 inches; or

• Subframes from 6 inches by 10 inches by 0.10 inch to 28 inches by 34 inches by 6 inches.

The subject merchandise is comprised of carbon or stainless steel wire ranging in thickness from 0.050 inch to 0.500 inch and may include sheet metal of either carbon or stainless steel ranging in thickness from 0.020 inch to 0.20 inch. The subject merchandise may be coated or uncoated and may be formed and/or welded. Excluded from the scope of this order is shelving in which the support surface is glass.

The merchandise subject to this order is currently classifiable in the Harmonized Tariff Schedule of the United States (“HTSUS”) statistical reporting numbers 8418.99.80.50, 7321.90.50.00, 7321.90.60.90, 8418.99.80.60, and 8516.90.80.00. Although the HTSUS subheadings are provided for convenience and customs purposes, the written description of the scope of this order is dispositive.

Countervailing Duty Order

On September 2, 2009, in accordance with section 735(d) of the Act, the ITC notified the Department of its final determination in this investigation. In its determination, the ITC found two domestic like products: (1) Refrigeration shelving; and (2) oven racks, covering the scope of subject merchandise subject to the investigation. The ITC determined that imports of refrigeration shelving from the PRC caused material injury to a domestic industry, and oven racks from the PRC threaten material injury to a domestic industry. Since the ITC made different affirmative injury determinations for both domestic like products, the Department must instruct U.S. Customs and Border protection to assess countervailing duties on entries of oven racks separately from refrigerator shelves. When we make a determination, either for one or more than one class or kind of merchandise, our determination that there is dumping or subsidization is specific to each class or kind of merchandise. In this case, we calculated final determination countervailing duty margins for a single class or kind of merchandise.

Refrigeration Shelving

Countervailing duties will be assessed on all unliquidated entries of certain refrigeration shelving from the PRC entered, or withdrawn from warehouse, for consumption on or after January 7, 2009, the date on which the Department published its preliminary affirmative countervailing duty determination in the Federal Register,¹ and before May 7, 2009, the date the Department instructed CBP to discontinue the suspension of liquidation in accordance with section 703(d) of the Act. Section 703(d) of the Act states that the suspension of liquidation pursuant to a preliminary determination may not remain in effect for more than four months. Therefore, entries of certain refrigeration shelving made on or after May 7, 2009, and prior to the date of publication of the ITC's final determination in the Federal Register are not liable for the assessment of countervailing duties due to the Department's discontinuation, effective May 7, 2009, of the suspension of liquidation.

¹ See Certain Kitchen Appliance Shelving and Racks From the People's Republic of China: Preliminary Affirmative Countervailing Duty Determination and Alignment of Final Countervailing Duty Determination With Final Antidumping Duty Determination, 74 FR 683 (January 7, 2009) (“Shelving and Racks Preliminary Results”).

In accordance with section 706 of the Act, the Department will direct CBP to reinstitute the suspension of liquidation for certain refrigeration shelving from the PRC, effective the date of publication of the ITC's notice of final determination in the Federal Register and to assess, upon further advice by the Department pursuant to section 706(a)(1) of the Act, countervailing duties for each entry of certain refrigeration shelving in an amount based on the net countervailable subsidy rates for the subject merchandise as noted below.

Oven Racks

According to section 706(b)(2) of the Act, duties shall be assessed on subject merchandise entered, or withdrawn from warehouse, for consumption on or after the date of publication of the ITC's notice of final determination if that determination is based upon the threat of material injury. Section 706(b)(1) of the Act states,

If the Commission, in its final determination under section 705(b), finds material injury or threat of material injury which, but for the suspension of liquidation under section 703(d)(2), would have led to a finding of material injury, then entries of the merchandise subject to the countervailing duty order, the liquidation of which has been suspended under section 703(d)(2), shall be subject to the imposition of countervailing duties under section 701(a).

In addition, section 706(b)(2) of the Act requires CBP to refund any cash deposits or bonds of estimated countervailing duties posted since the Department's preliminary countervailing duty determination, if the ITC's final determination is threat-based.

Because the ITC's final determination in this case is based on the threat of material injury to the oven racks industry and is not accompanied by a finding that injury would have resulted but for the imposition of suspension of liquidation of entries since the Department's preliminary determination was published in the Federal Register,² section 706(b)(2) of the Act is applicable.

² See Shelving and Racks Preliminary Results.

Therefore, the Department will direct CBP to reinstitute suspension of liquidation,³ and to assess, upon further instruction from the Department, countervailing duties in an amount based on the net countervailable subsidy rates for the subject merchandise as noted below, on all unliquidated entries of certain oven racks from the PRC entered, or withdrawn from warehouse, for consumption on or after the date of publication of the ITC's notice of final determination in the Federal Register.

³ The Department instructed CBP to discontinue the suspension of liquidation on May 7, 2009, in accordance with section 703(a) of the Act. Section 703(d) states that the suspension of liquidation pursuant to a preliminary determination may not remain in effect for more than four months.

Exporter/manufacturer | Net subsidy rate
Guangdong Wire King Co., Ltd. (formerly known as Foshan Shunde Wireking Housewares & Hardware) | 13.30
Asber Enterprises Co., Ltd. (China) | 170.82
Changzhou Yixiong Metal Products Co., Ltd. | 149.91
Foshan Winleader Metal Products Co., Ltd. | 149.91
Kingsun Enterprises Group Co, Ltd. | 149.91
Yuyao Hanjun Metal Work Co./Yuyao Hanjun Metal Products Co., Ltd. | 149.91
Zhongshan Iwatani Co., Ltd. | 149.91
All-Others | 13.30

This notice constitutes the countervailing duty order with respect to certain kitchen appliance shelving and racks from the PRC, pursuant to section 706(a) of the Act. Interested parties may contact the Department's Central Records Unit, Room 1117 of the main Commerce Building, for copies of an updated list of countervailing duty orders currently in effect.

This order is issued and published in accordance with section 706(a) of the Act and 19 CFR 351.211(b).

Dated: September 8, 2009.
Ronald K. Lorentzen,
Acting Assistant Secretary for Import Administration.

[FR Doc. E9-22020 Filed 9-9-09; 4:15 pm]

BILLING CODE 3510-DS-P